DEPARTMENT OF HEALTH AND HUMAN SERVICES

Office of the Secretary

Office of Public Health and Science; Office of Disease Prevention and Health Promotion

AGENCY: Office of Public Health and Science, Office of Disease Prevention and Health Promotion, HHS.

ACTION: Notice of availability of funds and request for applications for the Healthy People 2010 Community Implementation Program.

SUMMARY: The Office of Disease Prevention and Health Promotion announces the availability of fiscal year (FY) 2001 funds for a competitive cooperative agreement with one or more organizations to manage and support one or more two-year pilots of the Healthy People 2010 Community Implementation Program to study the efficacy of microfinance to support Healthy People 2010 implementation activities by community-based organizations. The goal of this program is to provide very small amounts of money to a wide variety of local, community-based organizations to assist them in conducting one or more activities related to Healthy People 2010 and the Leading Health Indicators. Approximately $500,000 to $700,000 is available in first-year funds for creation and promotion of a program for distributing very small grants (no more than $2,010 per organization) to multiple community-based organizations from one or more predefined, geographic areas; for the coordination of solicited applications from community-based organizations; for administration of the selection process; and for evaluation of the project with the aim of developing a model to be used for national replication. This award will begin on or about September 30, 2001 for a 12-month budget period with a project period of 2 years. Funding estimates may vary and are subject to change. Continuation awards within the project period will be made on the basis of satisfactory progress and availability of funds. The OMB Catalog of Federal Domestic Assistance number for the National Health Promotion Program is 93.990.

SUPPLEMENTARY INFORMATION: The Office of Disease Prevention and Health Promotion (ODPHP) uses cooperative agreements with public and non-profit organizations to support its mandate to provide leadership to promote health and prevent disease among Americans through management and coordination of the implementation of Healthy People 2010, the nation's health objectives for this decade. Through cooperative agreements, ODPHP has forged public-private partnerships to extend the reach and effectiveness of its work. For a copy of Healthy People 2010, visit the Internet site: http://www.health.gov/healthypeople.

ODPHP intends to provide financial assistance in the range of $500,000 to $700,000 to one or more successful grantees to plan and administer one or more competitive grant programs for community-based organizations who demonstrate an interest in conducting Healthy People 2010 implementation activities at the local level and to pilot this program over two years in a defined geographic region with the intent of developing recommendations that will form the basis of a national program. The purpose of this program is to provide “seed money” to local, non-profit organizations to begin or continue programs designed to increase the quality and years of healthy life and/or to eliminate health disparities through the implementation of one or more Healthy People 2010 objectives or the Leading Health Indicators at the community level. This cooperative agreement is intended to encourage community health promotion efforts and link them to the larger, national health agenda that is described by Healthy People 2010. By developing catalysts in communities whose aim is to improve the quality of life of residents, we make progress toward improving the quality of life for the entire nation. The successful grantee will: design the program; advertise availability of funds; coordinate distribution of announcements; develop, distribute, receive and screen applications; arrange for the transfer of funds (the balance of the total grant award) to community-based projects with successful applications; design and implement a basic program evaluation component as described below; and develop recommendations and a model for national implementation of the program at the end of the two-year period.

Submission Information

Applications for this announcement shall be submitted to Ms. Karen Campbell, Grants Management Officer, Division of Management Operations, Office of Minority Health, Rockwall II Building, Suite 1000, 5515 Security Lane, Rockville, MD 20852. Send the original and 2 copies of the complete application to this address.

Application Deadline

To receive consideration, applications must be received by August 15, 2001. Applications will be considered as meeting the deadline if they are: (1) Received on or before the deadline date, or (2) postmarked by the U.S. Postal Service on or before the deadline date and received in time for orderly processing. A legibly dated receipt from a commercial carrier such as FedEx will be accepted in lieu of a postmark. Private metered postmarks will not be accepted as proof of timely mailing. Applications hand-carried by applicants or by applicant couriers shall be considered as meeting an announced deadline if they are received on or before the deadline date between the hours of 9 am to 5 pm at the address indicated above. Applications submitted by facsimile transmission (FAX) or any other electronic format will not be accepted. Applications which do not meet the deadline will be considered late and will be returned to the applicant unread.

Application Kit

For this cooperative agreement, Form PHS 5161-1 (Revised July, 2000 and approved by OMB under Control Number 0937-0189) must be used. An applicant is advised to pay close attention to the specific program guidelines and general instructions provided in the application kit. To get an application kit, write to: Ms. Karen Campbell, Grants Management Officer, Division of Management Operations, Office of Minority Health, Rockwall II Building, Suite 1000, 5515 Security Lane, Rockville, MD 20852; or call Karen Campbell at (301) 594-0758.

FOR FURTHER INFORMATION CONTACT: Ms. Sally Jones, Administrative Officer, Office of Disease Prevention and Health Promotion, Hubert H. Humphrey Building Room 738-G, 200 Independence Avenue, SW., Washington, DC 20201, (202) 260-7654.

Authority

This program is authorized under section 301 and sections 1701 through 1704 of the Public Health Service Act, as amended, 42 U.S.C. 241 and 42 U.S.C. 300u through 300u-3.

Eligible Applicants

To qualify for funding, an applicant must be a non-profit organization with a history of addressing health and human services or public health issues. The successful applicant must have a strong knowledge of disease prevention and health promotion policy and programs; must have an understanding of the Healthy People program and formulation and management of national health goals and objectives; must have demonstrated the ability to work with and obtain information from both community-based and public organizations in the health sector; must have demonstrated program evaluation experience; must have capacity to promote and manage this program in a defined geographic area; and must share the vision of the value of the microfinance approach to stimulate health promotion activities in communities.

Availability of Funds

About $500,000 to $700,000 is expected to be available for award in FY 2001, funding one or more cooperative agreements. It is expected that this award will begin on or about September 30, 2001 and will be made for a 12-month budget period with a project period of up to two years. Funding estimates may change. It is expected that the successful grantee will make at least 100 awards to widely diverse community-based organizations, with an amount of no more than $2,010 per award.

Use of Funds

Funds cannot be used for construction or renovation, to purchase or lease vehicles or vans, to purchase a facility to house project staff or carry out project activities, or to substitute new activities and expenditures for current ones.

Project Requirements

Recipient Responsibilities

1. The successful applicant(s) will widely advertise and solicit proposals in a particular geographic region of the nation from community-based organizations providing health promotion and disease prevention activities for the purpose of increasing progress toward the achievement of Healthy People 2010 objectives and the Leading Health Indicators at the local level. A key responsibility is making the program known to as wide a range of groups as possible.

2. The successful applicant(s) will provide funding to selected community-based organizations in their particular geographic region to implement Healthy People 2010 at the local level. Recipients could include community service or civic organizations; groups focused on specific populations such as youth, the elderly, minorities or the medically under-served; faith-based organizations; public health service groups, or any other relevant non-profit organization. The selected organizations must:

• Be a preexisting organization with a history of providing public health activities in the local community;

• Focus their project activities on one or more Healthy People 2010 objectives or Leading Health Indicators.

Priority will be given to collaborations of three or more organizations.

3. The successful applicant(s) will establish a management team to execute the Healthy People 2010 Community Implementation Program.

4. The successful applicant(s) will establish a 9 member advisory board, comprised of experts in community-based public health, which will provide guidance and technical advice solely to the cooperative agreement management team. This board will review and approve criteria and design plans before the pilot is implemented in the first year.

5. The successful applicant(s) will convene a meeting with the Advisory Board at least once a year thereafter.

6. The successful applicant(s) will require a one-page written summary of activities from each funded institution and will conduct site visits to at least 5 percent of funded institutions to ensure compliance with the intent of the program.

7. The successful applicant(s) will initiate an evaluation of the overall project at the end of the first year, which will be completed by the end of the second year.

8. The applicant will submit a report on the overall project at the end of the second year that provides recommendations for project design and implementation and details a national model that can be used to replicate the program across the country.

ODPHP Responsibilities

Substantial programmatic involvement is as follows:

1. ODPHP will provide technical assistance and oversight as necessary for the overall design and implementation of the Healthy People 2010 Community Implementation Program.

2. ODPHP will participate in the development of, and ultimately approve, evaluation criteria for the selection and funding of the applications.

3. ODPHP will have final approval of the Advisory Board membership.

4. ODPHP will provide assistance to the management team on program strategies, direction, evaluation activities, and decisions related to adjustments in funding levels of participating institutions.

5. ODPHP will participate in site visits to the participating projects as deemed appropriate.

Review of Applications

Applications that are not complete or that do not conform to or address the criteria of the announcement will be returned without comment. Each organization may submit no more than one proposal under this announcement. Organizations submitting more than one proposal will be deemed ineligible. The proposals will be returned without comment. Accepted applications will be reviewed for technical merit in accordance with PHS policies. Applications will be evaluated by an Objective Review Panel. Panel members are chosen for their expertise in community-based public health and their understanding of health promotion and disease prevention issues at the national and local levels. Applications should be no more than 30 pages in length, excluding resumes and organizational background material.

Application Review Criteria

The technical review of applications will consider the following 5 generic factors:

(1) Project Approach and Activities (30 points)

The proposed objectives in the work plan relate to the goal to increase the quality and years of healthy life and/or to eliminate health disparities through implementation of Healthy People 2010 at the local level through the engagement of community-based organizations addressing public health issues. Each work plan describes:

• Measurable or quantifiable results or outcomes;

• How the results or outcomes relate to the project goals;

• How the project can be accomplished with the available or expected resources during the project period;

• How the main activities will be accomplished;

• Which staff will conduct the specific project activities;

• How the criteria for selection of funded organizations will be developed and applied;

• How the application for community-based organizations will be developed, distributed, promoted, processed, and screened;

• How to ensure selected organizations link their projects to Healthy People 2010 objectives and/or the Leading Health Indicators;

• How to promote awareness of this program to nontraditional groups, especially local community-based organizations;

• How to ensure diversity of projects funded by type and subject; and

• How to ensure broad distribution of projects within the target population and/or region.

(2) Project Evaluation (20 points)

Clarity of the intent and plans to document the activities and their outcomes;

Feasibility and appropriateness of evaluation design;

Ability to share and disseminate project results widely;

Demonstration of innovative approaches for evaluating microfinancing in public health;

Preliminary indications of potential for replication of the project on a national level for communities; and

Described approach for final project report that focuses on expanding the project nationally and replicating best practices.

(3) Organizational Capabilities/Qualifications (20 points)

The management and administrative structure of the applicant is explained. Evidence of the applicant's ability to manage a project of the proposed scope is well defined. The application clearly demonstrates the successful management of projects of similar scope by the organization and or by the individual and/or team designated to manage the project. The organization's active involvement in community-based public health is demonstrated.

Position descriptions and/or resumes of key personnel, including those of consultants, are presented. The position descriptions and/or resumes relate specifically to the staff proposed in the proposed approach and in the proposed budget of the application. Position descriptions clearly describe the position and its duties and clearly relate to the personnel staffing required to achieve the project objectives. Resumes demonstrate that the proposed staff are qualified to carry out the proposed activities. Either the position descriptions or the resumes contain the qualifications, and/or specialized skills, necessary for overall quality management of the project. Resumes must be included if individuals have been identified for positions in the application.

(4) Background and Goals (15 points)

Demonstrated knowledge of health promotion and disease prevention objectives and issues at the local and national levels;

Demonstrated need within the proposed target population;

Demonstrated ties to the community;

Demonstrated support and established linkages in order to conduct proposed model;

Extent and documented outcome of past efforts/activities with the target population;

Description of stated priorities and goals in the targeted region or population proposed; and

Proposed number and type of community-based organizations the grantee plans to target.

(5) Budget (15 points)

A detailed and fully explained budget is provided which:

• Justifies each line item, with a well-written justification, in the budget categories of the application;

• Includes and justifies sufficient cost and other necessary details to facilitate the determination of cost allowability and the relevance of these costs to the proposed project;

• Requests funds which are appropriate and necessary for the scope of the proposed project; and

• Demonstrates administrative efficiency and value which allows for the maximizing of resources available to the selected, community-based organizations.

Reporting and Other Requirements

General Reporting Requirements

A successful applicant under this notice will submit: (1) Quarterly progress reports; (2) an annual Financial Status Report; and (3) a final progress report and Financial Status Report in the format established by ODPHP, in accordance with provisions of the general regulations which apply under “Monitoring and Reporting Program Performance,” 45 CFR 74.51— 74.52, with the exception of State and local governments to which 45 CFR part 92, Subpart C reporting requirements apply.

Provision of Smoke-Free Workplace and Non-Use of Tobacco Products by Recipients of PHS Grants

The PHS strongly encourages all grant recipients to provide a smoke-free workplace and to promote the non-use of all tobacco products. In addition, Public Law 103-227, the Pro-Children Act of 1994, prohibits smoking in certain facilities (or in some cases, any portion of a facility) in which regular or routine education, library, day care, health care or early childhood development services are provided to children.

Public Health System Reporting Requirements

This program is subject to Public Health System Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letters forwarding the PHSIS to these authorities must be contained in the application materials submitted to the Office of Disease Prevention and Health Promotion.

State Reviews

This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the Office of Disease Prevention and Health Promotion's Acting Grants Management Officer. The Office of Disease Prevention and Health Promotion does not guarantee that it will accommodate or explain its responses to State process recommendations received after that date. (See “Intergovernmental Review of Federal Programs” Executive Order 12372 and 45 CFR part 100 for a description of the review process and requirements).

Dated: July 3, 2001.
Randolph F. Wykoff,
Deputy Assistant Secretary for Health (Disease Prevention and Health Promotion), Director, Office of Disease Prevention and Health Promotion.

[FR Doc. 01-17696 Filed 7-13-01; 8:45 am]

BILLING CODE 4150-32-P